DEPARTMENT OF HEALTH AND HUMAN SERVICES

Administration for Children and Families

Submission for OMB Review; Form ACF-196, TANF Quarterly Financial Report (OMB #0970-0247)

AGENCY: Office of Family Assistance; Administration for Children and Families; HHS

ACTION: Request for Public Comment.

SUMMARY: The Administration for Children and Families (ACF) is requesting to renew approval of the ACF-196 Temporary Assistance for Needy Families (TANF) Financial Reporting Form. The ACF-196 is the form used by states to revise expenditure data for fiscal years (FYs) prior to FY 2015. ACF will use the financial data provided by states to assess compliance with statutory and regulatory requirements relating to administrative costs and state matching requirements. No changes are proposed to the form.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: ACF Reports Clearance Officer. All requests, emailed or written, should be identified by the title of the information collection.

SUPPLEMENTARY INFORMATION:

Description: This information collection is authorized under Section 411(a)(3) of the Social Security Act. This request is for renewal of approval to the ACF-196 form for periodic financial reporting under the TANF program. States participating in the TANF program are required by statute to report financial data on the ACF-196 report. The continuation of the ACF-196 is necessary for the states that have open grant awards before FY 2015. This form meets the legal standard and provides essential data on the use of federal funds. Failure to collect the data would seriously compromise ACF's ability to monitor program expenditures, estimate funding needs, and to prepare budget submissions required by Congress. Financial reporting under the TANF program is governed by 45 CFR part 265.

Respondents: TANF Agencies.

Annual Burden Estimates
Instrument | Total number of respondents | Number of responses per respondent | Average burden hours per response | Annual burden hours
ACF-196 | 5 | 1 | 5 | 25

Estimated Total Annual Burden Hours: 25.

Authority: U.S.C. Section 402 of the Social Security Act (42 U.S.C. 602).

Mary B. Jones,
ACF/OPRE Certifying Officer.

[FR Doc. 2020-01124 Filed 1-23-20; 8:45 am]

BILLING CODE 4184-36-P